Proclamation 10913 of April 3, 2025

National Sexual Assault Awareness and Prevention Month, 2025

By the President of the United States of America

A Proclamation

This month, we recognize National Sexual Assault Awareness and Prevention Month by ending the unfathomable human abuse committed under open borders policies.

One of the leading causes of sexual violence over the last 4 years has been the invasion of illegal aliens at our southern border. In a treasonous act of betrayal against the American people, the previous administration unleashed an army of gangs and criminal aliens from the darkest and most dangerous corners of the world—causing a dramatic increase of sexual violence in our neighborhoods and communities. These reckless policies empowered some of the most depraved people on the planet to exploit women and children in the most vicious ways imaginable.

We will never forget the names of precious American souls like Jocelyn Nungaray, Laken Riley, Rachel Morin, and many others who were savagely killed by illegal alien crime. Last June, 12-year-old Jocelyn Nungaray was brutally assaulted and murdered by two illegal aliens in her home state of Texas. To memorialize her young life and love of nature and animals, I proudly renamed the Anahuac National Wildlife Refuge in Texas to the Jocelyn Nungaray National Wildlife Refuge. May this be Jocelyn's little piece of Heaven on Earth.

Every act of violence committed against an American at the hands of an illegal alien is a crime beyond all comprehension. For that reason, I am doing everything in my power to defend the dignity of every human life, keep violent criminals out of our country, and end sexual violence—including the degrading scourge of sex trafficking, a form of modern-day slavery that has battered multitudes of innocent lives and scarred untold numbers of our most vulnerable fellow citizens.

To protect our communities, one of my first actions as President was to declare a national emergency at the southern border. I also designated cartels as Foreign Terrorist Organizations and Specially Designated Global Terrorists to end their campaign of violence and bloodshed. In my first legislative action as President, I signed into law the Laken Riley Act, which requires U.S. Immigration and Customs Enforcement to detain illegal aliens convicted of burglary, theft, larceny, or shoplifting. I have also initiated the largest deportation operation in the history of our country—including the deportation of hundreds of illegal alien gang members to El Salvador.

As President, I am bringing back security on our border, safety on our streets, and law and order in our communities. Under my leadership, human trafficking is being brought to a rapid end, and justice is being swiftly served.

NOW, THEREFORE, I, DONALD J. TRUMP, President of the United States of America, by virtue of the authority vested in me by the Constitution and the laws of the United States, do hereby proclaim April 2025 as National Sexual Assault Awareness and Prevention Month. I urge all Americans, families, law enforcement personnel, healthcare providers, and community and faith-based organizations to support survivors of sexual assault and work together to prevent these crimes in their communities.

IN WITNESS WHEREOF, I have hereunto set my hand this third day of April, in the year of our Lord two thousand twenty-five, and of the Independence of the United States of America the two hundred and forty-ninth.

[FR Doc. 2025-06161

Filed 4-8-25; 8:45 am]

Billing code 3395-F4-P